DEPARTMENT OF HEALTH AND HUMAN SERVICES

Health Resources and Services Administration

Pediatric Mental Health Care Access Program

AGENCY: Health Resources and Services Administration (HRSA), Department of Health and Human Services.

ACTION: Announcing supplements for Pediatric Mental Health Care Access Program (PMHCA) award recipients to continue expansion activities and ensure consistent funding is offered across all award recipients.

SUMMARY: HRSA is announcing supplemental funding for 19 PMHCA (U4A) award recipients to continue to address the national surge in behavioral health needs among children and adolescents. These supplemental awards, funded through fiscal year (FY) 2025 appropriations, will ensure consistent support across all 29 PMHCA recipients. While 10 recipients previously received forward funding of supplemental funds, 19 did not due to availability of funds; this supplemental funding will bring parity across the program. HRSA previously provided supplemental funding to these 19 recipients for similar activities in FY 2023 and FY 2024. With this support, recipients will continue to enhance the behavioral health workforce capacity in pediatric primary care, school settings, and emergency departments to address the growing behavioral health needs among children and adolescents.

FOR FURTHER INFORMATION CONTACT: Lauren Ramos, Director of Division of Maternal and Child Health Workforce Development, Health Resources and Services Administration, at lramos@hrsa.gov or 301-443-6091.

SUPPLEMENTARY INFORMATION: Intended Recipient(s) of the Award: Nineteen PMHCA award recipients will be eligible to receive supplemental awards to continue to address the national surge in behavioral health needs among children and adolescents. These award recipients are listed in Table 1. Note: These 19 PMHCA award recipients received $115,291 of total available funds for this funding action in January 2025. HRSA will award the remaining $139,709 available for the funding action upon the publishing of this Federal Register notice. A statutory requirement at 42 U.S.C. 254c-19(f) (§ 330M(f) of the Public Health Service Act) requires that PMHCA award recipients match federal funding with a 20 percent non-federal match.

Amount of Non-Competitive Award(s): Total $2,654,471 for 19 awards (average $139,709 per award).

Project Period: September 30, 2025, to September 29, 2026.

Assistance Listing Number: 93.110.

Award Instrument: Non-competitive Supplement for Services.

Authority: 42 U.S.C. 254c-19 (§ 330M of the Public Health Service Act).

Table 1—19 U4A Recipients and Award Amounts
Original award number | Organization name | Supplement/ increase to base for 19 U4A PMHCA awardees | Total funding (Federal + non-Federal)
U4AMC53375 | My Health Resources of Tarrant County | $139,709 | $167,651
U4AMC53368 | Kentucky Cabinet for Health and Family Services | 139,709 | 167,651
U4AMC53366 | West Virginia Department of Health and Human Resources | 139,709 | 167,651
U4AMC53370 | New Mexico Department of Health | 139,709 | 167,651
U4AMC53373 | Indiana Family and Social Services Administration | 139,709 | 167,651
U4AMC53377 | Republic Of Palau | 139,709 | 167,651
U4AMC53379 | Red Lake Band of Chippewa Indians | 139,709 | 167,651
U4AMC53384 | Virgin Islands Department of Health Group | 139,709 | 167,651
U4AMC53361 | Illinois Department of Public Health | 139,709 | 167,651
U4AMC53359 | Commonwealth Healthcare Corporation | 139,709 | 167,651
U4AMC53376 | Oklahoma Department of Mental Health and Substance Abuse Services | 139,709 | 167,651
U4AMC53374 | Minnesota Department of Health | 139,709 | 167,651
U4AMC53358 | Chickasaw Nation | 139,709 | 167,651
U4AMC53372 | Vermont Agency of Human Services | 139,709 | 167,651
U4AMC53381 | South Carolina Department of Mental Health | 139,709 | 167,651
U4AMC53382 | Tennessee Department of Health | 139,709 | 167,651
U4AMC53369 | Louisiana Department of Health | 139,709 | 167,651
U4AMC54741 | Wyoming Department of Health | 139,709 | 167,651
U4AMC53364 | FSM Department of Health and Social Affairs | 139,709 | 167,651

Purpose/Justification: HRSA is issuing non-competitive supplemental funds in FY 2025 for 19 PMHCA award recipients to continue to address behavioral health needs among children and adolescents. HRSA provided Bipartisan Safer Communities Act emergency expansion awards in FY 2022 to 29 PMHCA U4A award recipients to expand PMHCA services to new providers and practices and to school-based and emergency department settings. In FY 2023, 10 PMHCA award recipients received 36 months of forward funding of supplemental funds to continue expansion activities for the remaining period of performance (September 30, 2023, to September 29, 2026). One award recipient received 12 months of forward funding of supplemental funds for the same purpose for FY 2023 (September 30, 2023, to September 29, 2024). Forward funding of supplemental funds was offered to these recipients with the intent to offer the remaining 19 PMHCA award recipients with the same level of funding through annual supplements in FY 2024 and FY 2025.

HRSA will offer supplemental funding for all 29 PMHCA U4A current award recipients in a manner that ensures all 29 award recipients are offered the same total amount of funding over a 3-year timeframe. If PMHCA current award recipients decline supplemental funding, that declined funding will be distributed among remaining recipients as allowable. The intended date of supplemental funding is September 30, 2025, to September 29, 2026, which falls within the current period of performance. In FY 2025, annual appropriation funds for PMHCA award recipients will be tracked separately from concurrent PMHCA awards.

PMHCA program award recipients will continue to expand the reach and capacity of PMHCA programs started in FY 2022 to provide training and tele-consult support to pediatric primary care providers and providers in other settings, including emergency departments and educational agencies and schools. The above activities are within the original scope of the PMHCA program (HRSA-22-121, and HRSA-21-122).

Thomas J. Engels,
Administrator.

[FR Doc. 2025-15033 Filed 8-6-25; 8:45 am]

BILLING CODE 4165-15-P